DEPARTMENT OF LABOR

Employment and Training Administration

[TA-W-70,812]

Performance Fibers Operations, Inc., Salisbury Plant, Including On-Site Leased Workers From Mundy Maintenance Services and Operations and UTi Integrated Logistics, Formerly Known as Standard Corporation; Salisbury, NC; Amended Certification Regarding Eligibility To Apply for Worker Adjustment Assistance

In accordance with Section 223 of the Trade Act of 1974, as amended (“Act”), 19 U.S.C. 2273, the Department of Labor issued a Certification of Eligibility to Apply for Worker Adjustment Assistance on July 7, 2009, applicable to workers of Performance Fibers Operations, Inc., Salisbury Plant, Salisbury, North Carolina. The notice was published in the Federal Register on August 19, 2009 (74 FR 41933). The notice as amended on July 23, 2009 to include on-site leased workers from Mundy Maintenance, Services and Operations, LLC and UTi Integrated logistics. The notice was published in the Federal Register on August 5, 2009 (74 FR 39106).

At the request of the State Agency, the Department reviewed the certification for workers of the subject firm. The workers are engaged in the production of polyester tire cord and high denier industrial yarn.

The company reports that UTi Integrated Logistics, an on-site leasing firm at the subject firm, was formerly known as Standard Corporation.

Information also shows that workers separated from employment from UTi Integrated Logistics had their wages reported under a separate unemployment insurance (UI) tax account for Standard Corporation.

Accordingly, the Department is amending this certification to properly reflect this matter.

The intent of the Department's certification is to include all workers of the subject firm who were adversely affected as an upstream supplier to a trade certified primary firm.

The amended notice applicable to TA-W-70,812 is hereby issued as follows:

All workers of Performance Fibers Operations, Inc., Salisbury Plant, including on-site leased workers from Mundy Maintenance Services and Operations and UTi Integrated Logistics, formerly known as Standard Corporation, Salisbury, North Carolina, who became totally or partially separated from employment on or after May 29, 2008 through July 7, 2011, and all workers in the group threatened with total or partial separation from employment on date of certification through two years from the date of certification, are eligible to apply for adjustment assistance under Chapter 2 of Title II of the Trade Act of 1974, as amended.

Signed at Washington, DC, this 7th day of October 2009
Richard Church,
Certifying Officer, Division of Trade Adjustment Assistance.

[FR Doc. E9-25148 Filed 10-19-09; 8:45 am]

BILLING CODE 4510-FN-P